ENVIRONMENTAL PROTECTION AGENCY

[OEI-2003-0032; FRL-7520-2]

A Summary of General Assessment Factors for Evaluating the Quality of Scientific and Technical Information

AGENCY: Environmental Protection Agency.

ACTION: Notice of availability.

SUMMARY: The U.S. Environmental Protection Agency (EPA) is announcing the availability of the final A Summary of General Assessment Factors for Evaluating the Quality of Scientific and Technical Information (EPA 100/B-03/001; herein after referred to as the “Assessment Factors Document”).

DATES: EPA is making the document available July 1, 2003.

ADDRESSES: The “Assessment Factors Document” is available at the EPA web site at the following web pages: http://www.epa.gov/oei/qualityguidelines/af_home.htm, http://www.epa.gov/osp/spc/2polprog.htm.

FOR FURTHER INFORMATION CONTACT: Greg Schweer, Office of Pollution Prevention and Toxics (7405M), telephone number: (202) 564-8469; fax number: (202) 564-4765 or Halûk Özkaynak, Office of Research and Development (8601-D), telephone number (202) 564-1531, fax number (202) 564-0061, Environmental Protection Agency, 1200 Pennsylvania Ave., NW., Washington, DC 20460; e-mail address: assessment.factors@epa.gov.

SUPPLEMENTARY INFORMATION:

What is the EPA “Assessment Factors Document'?

The “Assessment Factors Document” was prepared under the auspices of the EPA Science Policy Council (SPC) to describe the assessment factors and considerations generally used by the Agency to evaluate the quality and relevance of scientific and technical information. These general assessment factors are founded in the Agency guidelines, practices and procedures that make up the EPA information and quality systems, including existing program-specific quality assurance policies. As such, the general assessment factors do not constitute new quality-related considerations, nor does this document describe a new process for evaluating information. The “Assessment Factors Document” is intended to raise the awareness of the information-generating public about EPA's ongoing interest in ensuring and enhancing the quality of information available for Agency use. Further, the “Assessment Factors Document” complements the Guidelines for Ensuring and Maximizing the Quality, Objectivity, Utility, and Integrity of Information Disseminated by the Environmental Protection Agency (EPA/260/R-02-008). The Information Quality Guidelines are also available via internet at: http://www.epa.gov/oei/qualityguidelines.

Consistent with the Agency's approach to the development of the EPA Information Quality Guidelines, this document is the product of an open, collaborative process between EPA and the public. During the development of this document, EPA requested public input in a variety of ways. EPA distributed a draft document for public comment in September 2002 and hosted a public meeting in Washington, DC. In January 2003, EPA commissioned the National Academy of Sciences to host a workshop to discuss key aspects of this document from a scientific and technical perspective. EPA revised this document based on the input received through these public outreach opportunities.

How Can I Get Copies of the “Assessment Factors Document”?

You may access the EPA “Assessment Factors Document” and other information related to this notice electronically at the following web pages: http://www.epa.gov/oei/qualityguidelines/af_home.htm and http://www.epa.gov/osp/spc/2polprog.htm.

To obtain a written copy of the “Assessment Factors Document”, you may contact either of the individuals listed under FOR FURTHER INFORMATION CONTACT.

Elaine Stanley,
Director, Office of Information Analysis and Access, Office of Environmental Information.

[FR Doc. 03-16328 Filed 6-30-03; 8:45 am]

BILLING CODE 6560-50-P